ENVIRONMENTAL PROTECTION AGENCY

[ER-FRL-9026-4]

ENVIRONMENTAL IMPACT STATEMENTS; NOTICE OF AVAILABILITY

Responsible Agency: Office of Federal Activities, General Information (202) 564-7146 or http://www2.epa.gov/nepa.

Weekly receipt of Environmental Impact Statements (EISs)

Filed 03/28/2016 Through 04/01/2016

Pursuant to 40 CFR 1506.9.

Notice: Section 309(a) of the Clean Air Act requires that EPA make public its comments on EISs issued by other Federal agencies. EPA's comment letters on EISs are available at: https://cdxnodengn.epa.gov/cdx-nepa-public/action/eis/search.

EIS No. 20160070, Final, BLM, DC, Vegetation Treatments Using Aminopyralid, Fluroxypyr, and Rimsulfuron on Bureau of Land Management Lands in 17 Western States, Review Period Ends: 05/09/2016, Contact: Gina Ramos 202-912-7226.

EIS No. 20160071, Draft Supplement, NIGC, CA, Jamul Indian Village, Comment Period Ends: 05/23/2016, Contact: John R. Hay 202-632-7003.

EIS No. 20160072, Draft, USFS, CA, Tobias Ecosystem Restoration Project, Comment Period Ends: 05/23/2016, Contact: ODell Tucker 559-539-2607 ext. 213.

EIS No. 20160073, Second Draft Supplemental, USFS, WY, Oil and Gas Leasing in Portions of the Wyoming Range in the Bridger-Teton National Forest, Comment Period Ends: 05/23/2016, Contact: Donald Kranendonk 435-781-5245.

Amended Notices

EIS No. 20160074, Final, GSA, DC, ADOPTION—Department of Homeland Security Headquarters at the St. Elizabeth West Campus to Consolidate Federal Office Space on a Secure Site, Contact: Jennifer Hass 202-834-4346 The U.S. Department of Homeland Security (DHS) has adopted the General Services Administration's Final EIS # 20080452, filed with the USEPA on 11/07/2008. DHS was a cooperating agency for this project. Recirculation of the document is not necessary in accordance with Section 1506.3(c) of the CEQ Regulations.

EIS No. 20160075, Final, GSA, DC, ADOPTION—Department of Homeland Security Headquarters Consolidation at St. Elizabeths Master Plan Amendment—East Campus North Parcel St. Elizabeths Campus, Contact: Jennifer Hass 202-834-4346. The U.S. Department of Homeland Security (DHS) has adopted the General Services Administration's Final EIS #20120049, filed with the USEPA on 03/02/2012. DHS was a cooperating agency for this project. Recirculation of the document is not necessary in accordance with Section 1506.3(c) of CEQ Regulations.

Dated: April 5, 2016.
Dawn Roberts,
Management Analyst, NEPA Compliance Division, Office of Federal Activities.

[FR Doc. 2016-08139 Filed 4-7-16; 8:45 am]

BILLING CODE 6560-50-P